DEPARTMENT OF TRANSPORTATION

Pipeline and Hazardous Materials Safety Administration

49 CFR Parts 191 and 195

[Docket No. PHMSA-2025-0109]

RIN 2137-AF78

Pipeline Safety: Property Damage Definition for Incident Reporting on Gas Pipelines and Accidents on Hazardous Liquid Pipelines

AGENCY: Pipeline and Hazardous Materials Safety Administration (PHMSA), Department of Transportation (DOT).

ACTION: Withdrawal of direct final rule (DFR).

SUMMARY: Due to the receipt of adverse comment, PHMSA is withdrawing the DFR titled “Property Damage Definition for Incident Reporting on Gas Pipelines and Accidents on Hazardous Liquid Pipelines,” which published on July 1, 2025.

DATES: Effective October 2, 2025, PHMSA withdraws the DFR published at 90 FR 28050 on July 1, 2025.

FOR FURTHER INFORMATION CONTACT: Sayler Palabrica, Transportation Specialist, 1200 New Jersey Avenue SE, Washington, DC 20590, by phone at 202-744-0825 or by email at sayler.palabrica@dot.gov.

SUPPLEMENTARY INFORMATION: Due to the receipt of adverse comment, PHMSA is withdrawing the DFR titled “Property Damage Definition for Incident Reporting on Gas Pipelines and Accidents on Hazardous Liquid Pipelines,” which published on July 1, 2025 (90 FR 28050). PHMSA stated in that DFR that if PHMSA received adverse comment by September 2, 2025, the DFR would not take effect and PHMSA would publish a timely withdrawal in the Federal Register. Because PHMSA subsequently received adverse comment on that DFR, PHMSA is withdrawing the DFR. In accordance with PHMSA's procedures at 49 CFR 190.339 for direct final rulemaking, the Administrator may incorporate the adverse comment into a subsequent DFR or may publish a notice of proposed rulemaking (NPRM). An NPRM would provide an opportunity for public comment and will be processed in accordance with 49 CFR 190.311 through 190.329.

List of Subjects

49 CFR Part 191

Natural gas, Pipeline safety, Reporting and recordkeeping requirements.

49 CFR Part 195

Pipeline safety, Reporting and recordkeeping requirements.

Accordingly, as of October 2, 2025, PHMSA withdraws the direct final rule amending 49 CFR Parts 191 and 195, which published at 90 FR 28050 on July 1, 2025.

Issued in Washington, DC, on September 30, 2025, under the authority designated in 49 CFR 1.97.
Benjamin D. Kochman,
Deputy Administrator.

[FR Doc. 2025-19323 Filed 10-1-25; 8:45 am]

BILLING CODE 4910-60-P